NUCLEAR REGULATORY COMMISSION

Biweekly Notice Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from May 22, 2008 to June 4, 2008. The last biweekly notice was published on June 3, 2008 (73 FR 31717).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D44, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer(tm) to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, et al., Docket No. 50-219, Oyster Creek Nuclear Generating Station (Oyster Creek), Ocean County, New Jersey.

Date of amendment request: October 18, 2007.

Description of amendment request: The proposed amendment would modify Technical Specification (TS) 4.5.M.1.e.1, “Containment System,” concerning the mechanical snubbers functional test acceptance criteria. Specifically, the change would replace the snubber breakaway test with a drag force test.

Basis for proposed no significant hazards consideration determination: As required by 10 CFR 50.91(a), the licensee has provided its analysis of the issue of no significant hazards consideration, which is presented below:

1. Does the proposed amendment involve a significant increase in the probability or consequences of an accident previously evaluated?

Response: No.

The proposed change modifies Technical Specifications (TS) Section 4.5.M.1.e.1 concerning the Mechanical Snubbers Functional Test Acceptance Criteria, specifically, replacement of the snubber breakaway test with the drag force test. [Title 10 of the Code of Federal Regulations (10 CFR), Part] 50.55a(b)(3)(v) permits the use of [American Society of Mechanical Engineers (ASME) Operations and Maintenance (OM) Code], Subsection ISTD, in lieu of the ASME Code, Section XI, for the inservice testing of snubbers. Subsection ISTD of the ASME OM-Code, “Preservice and Inservice Examination and Testing of Dynamic Restraints (Snubbers) in Light-Water Reactor Nuclear Power Plants,” provides the requirements for snubber testing. A requirement to perform the breakaway test no longer exists in the ASME OM Code. Current ASME OM Code requirements require a drag force test. The drag force test is a more encompassing representation of overall snubber resistance to thermal movement because it is performed over the entire working range of the snubber stroke. Therefore, a drag force test should be used rather than the breakaway or “force that initiated free movement” as currently worded in the [Oyster Creek Generating Station] TS. In addition to the above, the breakaway test is intended to be performed prior to any movement of the snubber. This is an impractical test situation, because the snubber has typically moved while the unit is cooling down, and the piping experiences thermal cycles.

The percentage of snubbers sampled and the period between inspections has not changed. Also, the way the snubber functions has not changed, only the method of testing that ensures continued functionality of it. Elimination of the breakaway test will not reduce the ability of snubbers to perform their intended design function. Drag force testing as defined in the TS will ensure adequate demonstration of snubber performance. Also, this change will not increase the probability of malfunction of plant equipment, or the failure of plant structures, systems, or components. Piping systems that include snubbers in their configuration will still be capable of performing their safety function.

Therefore, the proposed change[s do not involve a significant increase in] the probability or consequences of an accident previously evaluated.

2. Does the proposed amendment create the possibility of a new or different kind of accident from any accident previously evaluated?

Response: No.

The proposed change does not affect the assumed accident performance of the Reactor Coolant Pressure Boundary, nor any plant structure, system, or component previously evaluated. The proposed change does not involve the installation of new equipment, and installed equipment is not being operated in a new or different manner. The change deletes the breakaway test for snubbers, which is no longer required by the ASME OM Code, and replaces it with a drag force test to ensure snubber functionality consistent with the ASME OM Code. No set points are being changed which would alter the dynamic response of plant equipment, and the design function of systems associated with snubbers will not be altered. Accordingly, no new failure modes or accident initiators are introduced.

Therefore, the proposed change[s do] not create the possibility of a new or different kind of accident from any accident previously evaluated.

3. Does the proposed amendment involve a significant reduction in a margin of safety?

Response: No.

The proposed change does not affect the function of any safety systems or response during plant transients. There are no changes proposed which alter the set points at which protective actions are initiated, and there is no change to the operability requirements for equipment assumed to operate for accident mitigation. The snubbers will continue to perform their design function. This change deletes the breakaway test for snubbers, which is no longer required by the ASME OM Code, and replaces it with a drag force test. Therefore, the proposed changes do not involve a significant reduction in any margin of safety.

The NRC staff has reviewed the licensee's analysis and, based on this review, and with the changes noted above, it appears that the three standards of 10 CFR 50.92(c) are satisfied. Therefore, the NRC staff proposes to determine that the amendment request involves no significant hazards consideration.

Attorney for licensee: Thomas S. O'Neill, Associate General Counsel, Exelon Generation Company, LLC, 4300 Winfield Road, Warrenville, IL 60555.

NRC Branch Chief: Harold K. Chernoff.

AmerGen Energy Company, LLC, et al., Docket No. 50-219, Oyster Creek Nuclear Generating Station (Oyster Creek), Ocean County, New Jersey.

Date of amendment request: March 10, 2008.

Description of amendment request: The proposed amendment would relocate the pressure and temperature limit curves from the Technical Specifications (TSs) to the licensee controlled “Pressure and Temperature Limits Report.” Additionally, the proposed change would update other TS references from the TS contained curves to those in the Pressure and Temperature Limits Report.

Basis for proposed no significant hazards consideration determination: As required by 10 CFR 50.91(a), the licensee has provided its analysis of the issue of no significant hazards consideration, which is presented below:

1. Does the proposed amendment involve a significant increase in the probability or consequences of an accident previously evaluated?

Response: No.

The proposed change modifies the Technical Specifications (TS) Section 1.0 (“Definitions”), Limiting Conditions for Operation Section 3.3 (“Reactor Coolant”), Surveillance Requirement 4.3 (“Reactor Coolant”), and 6.0 (“Administrative Controls”), to delete reference to the [Pressure-Temperature (P-T)] curves and include reference to the [pressure-temperature limits report (PTLR)]. This change adopts the methodology of SIR-05-044-A, “Pressure-Temperature Limits Report Methodology for Boiling Water Reactors,” dated April 2007 for preparation of the pressure and temperature curves, and incorporates the guidance of TSTF-419-A (“Revised PTLR Definition and References in ISTS 5.6.6, RCS PTLR”). [As stated in] an NRC [safety evaluation report] dated February 6, 2007, “the NRC staff has found that SIR-05-044 is acceptable for referencing in licensing applications for General Electric designed boiling water reactors to the extent specified and under the limitations delineated in the [topical report (TR)] and in the enclosed final [safety evaluation].” As part of this change, the PTLR based on the methodology and template provided in SIR-05-044 is being supplied for review. The P-T curves utilize the methodology of SIR-05-044-A.

The NRC has established requirements in Appendix G to [Title 10 of the Code of Federal Regulations (10 CFR) Part 50] to protect the integrity of [the reactor coolant pressure boundary (RCPB)] in nuclear power plants. Additionally, 10 CFR Part 50, Appendix H, provides the NRC staff's criteria for the design and implementation of RPV material surveillance programs for operating lightwater reactors. Implementing this NRC-approved methodology does not reduce the ability to protect the RCPB as specified in Appendix G, nor will this change increase the probability of malfunction of plant equipment, or the failure of plant structures, systems, or components. Incorporation of the new methodology for calculating P-T curves from the TS to the PTLR provides an equivalent level of assurance that the RCPB is capable of performing its intended safety functions. Thus, the proposed change does not affect the probability or consequences of an accident previously evaluated.

Therefore, the proposed changes do not involve a significant increase in the probability or consequences of an accident previously evaluated.

2. Does the proposed amendment create the possibility of a new or different kind of accident from any accident previously evaluated?

Response: No.

The proposed change does not affect the assumed accident performance of the RCPB, nor any plant structure, system, or component previously evaluated. The proposed change does not involve the installation of new equipment, and installed equipment is not being operated in a new or different manner. The change in methodology ensures that the RCPB remains capable of performing its safety functions. No setpoints are being changed which would alter the dynamic response of plant equipment. Accordingly, no new failure modes are introduced which could introduce the possibility of a new or different kind of accident from any previously evaluated.

This change adopts the methodology of SIR-05-044-A, “Pressure-Temperature Limits Report Methodology for Boiling Water Reactors,” dated April 2007 for preparation of the pressure and temperature curves, and incorporates the guidance of TSTF-419-A (“Revise PTLR Definition and References in ISTS 5.6.6, RCS PTLR”). In an NRC SER dated February 6, 2007, the NRC staff has found that SIR-05-044 is acceptable for referencing in licensing applications for General Electric designed boiling water reactors.

Therefore, the proposed changes do not create the possibility of a new or different kind of accident from any accident previously evaluated.

3. Does the proposed amendment involve a significant reduction in a margin of safety?

Response: No.

The proposed change does not affect the function of the RCPB or its response during plant transients. There are no changes proposed which alter the setpoints at which protective actions are initiated, and there is no change to the operability requirements for equipment assumed to operate for accident mitigation. This change adopts the methodology of SIR-05-044-A, “Pressure-Temperature Limits Report Methodology for Boiling Water Reactors,” dated April 2007 for preparation of the P-T curves. Therefore, the proposed change does not involve a significant reduction in a margin of safety.

The NRC staff has reviewed the licensee's analysis and, based on this review, and with the changes noted above, it appears that the three standards of 10 CFR 50.92(c) are satisfied. Therefore, the NRC staff proposes to determine that the amendment request involves no significant hazards consideration.

Attorney for licensee: Thomas S. O'Neill, Associate General Counsel, Exelon Generation Company, LLC, 4300 Winfield Road, Warrenville, IL 60555.

NRC Branch Chief: Harold K. Chernoff.

Dominion Energy Kewaunee, Inc. Docket No. 50-305, Kewaunee Power Station, Kewaunee County, Wisconsin.

Date of amendment request: April 14, 2008.

Description of amendment request: The proposed amendment would modify the Technical Specifications to allow the main steam line isolation (SLI) circuitry to be inoperable when both Main Steam Isolation Valves (MSIVs) are closed and de-activated.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would allow the SLI instrumentation to be inoperable when both MSIVs are already closed and de-activated. When both MSIVs are closed, the SLI function is already accomplished and the SLI instrumentation is no longer needed. The proposed amendment does not involve a physical alteration of the plant or a functional change in the methods used to respond to any evaluated plant accident. The isolation function is accomplished either by SLI instrumentation or manually closing the MSIVs. No new or different equipment is being installed and no installed equipment is being removed or modified. The proposed amendment would not alter the parameters within which the plant is normally operated or the setpoints which initiate protective or mitigative actions.

With both MSIVs closed, the SLI instrumentation is not required to be operable since its safety function has already been accomplished. Addition of the proposed new footnote would not adversely impact any of the previously evaluated accidents described in the KPS [Kewaunee Power Station] USAR [Updated Safety Analysis Report].

Therefore, the proposed amendment does not involve a significant increase in the probability or consequences of an accident previously evaluated.

2. Does the proposed amendment create the possibility of a new or different kind of accident from any accident previously evaluated?

Response: No.

The proposed amendment does not involve a physical alteration of the plant or a functional change in the methods used to respond to plant accidents or transients. No new or different equipment is being installed and no installed equipment is being removed or modified. The proposed amendment would not alter the parameters within which the plant is normally operated or the setpoints which initiate protective or mitigative actions. The design function of the SLI instrumentation would not be changed. With both MSIVs closed, the safety function associated with the SLI instrumentation has already been accomplished. Allowing the SLI instrumentation to be inoperable when both MSIVs are closed and de-activated does not functionally impact how the plant would respond to any previously evaluated accidents. No new failure mechanisms, malfunctions, or accident initiators not considered in the design and licensing bases are introduced by the proposed amendment.

Therefore, the proposed change does not create the possibility of a new or different kind of accident from any previously evaluated.

3. Does the proposed amendment involve a significant reduction in a margin of safety?

Response: No.

Margin of safety is established through the design of the systems, structures, and components, the parameters within which the plant is operated, and the establishment of setpoints for the actuation of equipment relied upon to respond to an event. The proposed TS amendment does not adversely impact any plant structure, system or component that is relied upon for accident mitigation. The design of the SLI function is not affected by the proposed change. Closure and de-activation of the MSIVs represents an increase in functional margin as a deactivated valve has no opportunity to be inadvertently opened. The proposed amendment also does not adversely affect the setpoints or parameters under which the SLI instrumentation is operated. Station operations and the SLI function would not be adversely affected by the proposed change, because the isolation function capability is maintained throughout the applicable modes of operation. The proposed change does not alter any design basis or safety limit established in the KPS USAR.

Therefore, the proposed amendment to the KPS TS does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, Richmond, VA 23219.

NRC Branch Chief: Lois James.

Dominion Nuclear Connecticut Inc., et al., Docket Nos. 50-336 and 50-423, Millstone Power Station, Unit Nos. 2 and 3, New London County, Connecticut.

Date of amendment request: August 15, 2007.

Description of amendment request: The proposed amendment would modify Technical Specification (TS) 3.3.3.1, “Radiation Monitoring,” TS 3.4.6.1, “Reactor Coolant System Leakage Detection Systems,” and Surveillance Requirements 4.4.6.1, “Reactor Coolant System Leakage Detection Systems.” Specifically, the proposed amendment would remove credit for the gaseous radiation monitor for Reactor Coolant System leakage detection. Improvements in nuclear fuel reliability over time have resulted in the reduction of effectiveness of the monitors in detecting very small leaks and very small changes in the leakrate. The proposed change also addresses the condition when the remaining monitoring systems are all inoperable.

Basis for proposed no significant hazards consideration determination: As required by 10 CFR 50.91(a), the licensee has provided its analysis of the issue of no significant hazards consideration, which is presented below:

1. Does the proposed change involve a significant increase in the probability or consequences of an accident previously evaluated?

Response: No.

The proposed change has been evaluated and determined to not increase the probability or consequences of an accident previously evaluated. The proposed change does not make any hardware changes and does not alter the configuration of any plant system, structure or component (SSC). The containment atmosphere gaseous radioactivity monitor is not credited for use in the initiation of any protective functions. The proposed change only removes the containment atmosphere gaseous radioactivity monitor for meeting the operability requirement for TS 3.4.6.1. Therefore, the probability of occurrence of an accident is not increased. The TS will continue to require diverse means of leakage detection equipment, thus ensuring that leakage due to cracks would continue to be identified prior to breakage and the plant shutdown accordingly. Additionally, the function of this equipment is not modeled in the MPS2 or MPS3 probabilistic risk assessment and therefore its removal from the Technical Specifications has no impact on core damage frequency or large early release frequency. Therefore, the consequences of an accident are not increased.

2. Does the proposed change create the possibility of a new or different kind of accident from any accident previously evaluated?

Response: No.

The proposed change does not involve the use or installation of new equipment and the currently installed equipment will not be operated in a new or different manner. No new or different system interactions are created and no new processes are introduced. The proposed changes will not introduce any new failure mechanisms, malfunctions, or accident initiators not already considered in the design and licensing bases. The proposed change does not affect any SSC associated with an accident initiator. Based on this evaluation, the proposed change does not create the possibility of a new or different kind of accident from any accident previously evaluated.

3. Does the proposed change involve a significant reduction in a margin of safety?

Response: No.

The proposed change does not make any alteration to any RCS [Reactor Coolant System] leakage detection components. The proposed change only removes the gaseous channel of the containment atmosphere radioactivity monitor for meeting the operability requirement for TS 3.4.6.1. The proposed amendment continues to require diverse means of leakage detection equipment with capability to promptly detect RCS leakage. Although not required by TS, additional diverse means of leakage detection capability are available. Based on this evaluation, the proposed change does not involve a significant reduction in a margin of safety.

Based on the above, DNC [Dominion Nuclear Connecticut] concludes that the proposed amendment involves no significant hazards consideration under the standards set forth in 10 CFR 50.92, and a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Waterford, CT 06141-5127.

NRC Branch Chief: Harold K. Chernoff.

Exelon Generation Company, LLC, Docket Nos. STN 50-454 and STN 50-455, Byron Station, Unit Nos. 1 and 2, Ogle County, Illinois.

Docket Nos. STN 50-456 and STN 50-457, Braidwood Station, Units. 1 and 2, Will County, Illinois.

Date of amendment request: March 18, 2008.

Description of amendment request: The proposed amendments would revise the technical specification (TS) surveillance requirement (SR) numbering for two engineered safety feature actuation system (ESFAS) instrumentation SRs that were revised in previous license amendments issued by the Nuclear Regulatory Commission (NRC) staff. The revised numbering scheme in the previous amendments introduced inconsistencies within TS 3.3.2. In addition, the proposed amendments request an extension of the 120-day period for implementation of the changes to SRs 3.3.2.6 and 3.3.2.7, approved in the previous license amendments, to 30 days following approval of the proposed amendments.

Basis for proposed no significant hazards consideration determination: As required by 10 CFR 50.91(a), the licensee has provided its analysis of the issue of no significant hazards consideration, which is presented below:

1. The proposed changes do not involve a significant increase in the probability or consequences of an accident previously evaluated.

The proposed revision to the numbering of two ESFAS instrumentation SRs and extension of a previously approved license amendment implementation period are purely administrative in nature, and as such, do not increase the probability of any accident previously evaluated. The proposed changes do not affect accident initiators or precursors nor alter the design assumptions, conditions, or configuration of the facility or the manner in which the plant is operated and maintained. The proposed changes will not modify any system interface, nor will they affect the probability of any event initiators. Therefore, the proposed changes do not increase the probability of an accident previously evaluated.

Since the proposed changes are purely administrative, the changes will not alter or prevent structures, systems, and components from performing their intended function to mitigate the consequences of an initiating event, within the assumed acceptance limits. The proposed amendment does not change the response of the plant to any accidents and has no impact on the reliability of the ESFAS signals. The ESFAS will remain highly reliable, and the proposed changes will not result in an increase in the risk of plant operation. There will be no degradation in the performance of, or an increase in the number of challenges imposed on safety-related equipment assumed to function during an accident situation. The proposed changes do not affect the source term, containment isolation, or radiological release assumptions used in evaluating the radiological consequences of any accident previously evaluated. Therefore, there will not be an increase in the consequences of any accidents.

2. The proposed changes do not create the possibility of a new or different kind of accident from any accident previously evaluated.

The proposed revision to the numbering of two ESFAS instrumentation SRs and extension of a previously approved license amendment implementation period are purely administrative in nature. There are no hardware changes nor are there any changes in the method by which any safety-related plant system performs its safety function. The proposed changes will not affect the normal method of plant operation. No performance requirements will be affected or eliminated. The proposed changes will not result in physical alteration to any plant system nor will there be any change in the method by which any safety-related plant system performs its safety function. There will be no setpoint changes or changes to accident analysis assumptions.

No new accident scenarios, transient precursors, failure mechanisms, or limiting single failures are introduced as a result of these changes. There will be no adverse effect or challenges imposed on any safety-related system as a result of these changes. Therefore, the proposed changes do not create the possibility of a new or different kind of accident from any [accident] previously evaluated.

3. The proposed changes do not involve a significant reduction in a margin of safety.

The proposed revision to the numbering of two ESFAS instrumentation SRs and extension of a previously approved license amendment implementation period are purely administrative in nature. Therefore, the proposed changes do not affect the acceptance criteria for any analyzed event, nor is there a change to any safety analysis limit. There will be no effect on the manner in which safety limits, limiting safety system settings, or limiting conditions for operation are determined nor will there be any effect on those plant systems necessary to assure the accomplishment of protection functions. There will be no impact on the departure from nucleate boiling limits, fuel centerline temperature, or any other margin of safety.

Redundant ESFAS trains are maintained, and diversity with regard of the signals that provide engineered safety features actuation is also maintained. All signals credited as primary or secondary, and all operator actions credited in the accident analyses will remain the same. The proposed changes will not result in plant operation in a configuration outside the design basis. Therefore, the proposed changes do not involve a significant reduction in [a] margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Russell Gibbs.

FPL Energy Duane Arnold, LLC, Docket No. 50-331, Duane Arnold Energy Center, Linn County, Iowa.

Date of amendment request: December 20, 2007.

Description of amendment request: The proposed amendment would add a Surveillance Requirement to Technical Specification (TS) Section 3.7.2, “RWS [River Water Supply] System and UHS [Ultimate Heat Sink],” to require surveillances of the Cedar River depth to assure UHS operability.

Basis for proposed no significant hazards consideration determination: As required by 10 CFR 50.91(a), the licensee has provided its analysis of the issue of no significant hazards consideration, which is presented below:

1. Does the proposed amendment involve a significant increase in the probability or consequences of an accident previously evaluated?

Response: No.

Technical Specifications currently require surveillance of river level elevation and temperature. These surveillance requirements are unchanged. Adding an additional surveillance requirement to measure river depth will not adversely impact the probability or consequences of an accident previously evaluated.

Therefore, the proposed change does not involve a significant increase in the probability or consequences of an accident previously evaluated.

2. Does the proposed amendment create the possibility of a new or different kind of accident from any accident previously evaluated?

Response: No.

Adding TS Surveillance Requirements to measure river depth does not create the possibility of a new or different kind of accident from any accident previously evaluated and does not represent a change in the methods governing normal plant operation. In addition, the proposed change does not alter or eliminate any existing requirements. The proposed change does not alter assumptions made in the safety analysis. The proposed change is consistent with the safety analysis assumptions and current plant operating practice.

Therefore, the proposed change does not create the possibility of a new or different kind of accident from any previously evaluated.

3. Does the proposed amendment involve a significant reduction in a margin of safety?

Response: No.

Per the DAEC [Duane Arnold Energy Center] UFSAR [Updated Final Safety Analysis Report], adequate river flow into the lntake Structure must be available to meet emergency cooling requirements and assure UHS OPERABILITY. Adequate river flow can be assured by requiring a minimum river depth of 6.5 inches or greater at the lntake Structure. The proposed Surveillance Requirements ensure margin to the minimum flow by specifying a depth of 12 inches or greater at the lntake Structure. Adding additional surveillance requirements for river depth will not adversely impact any margin of safety.

The NRC staff has reviewed the licensee's analysis and, based on this review, it appears that the three standards of 10 CFR 50.92(c) are satisfied. Therefore, the NRC staff proposes to determine that the amendment request involves no significant hazards consideration.

Attorney for licensee: Marjan Mashhadi, Florida Power & Light Company, 801 Pennsylvania Avenue, Suite 220, Washington, DC 20004.

NRC Branch Chief: Lois M. James.

Omaha Public Power District, Docket No. 50-285, Fort Calhoun Station, Unit No. 1, Washington County, Nebraska.

Date of amendment request: April 22, 2008.

Description of amendment request: The amendment would revise the Technical Specifications (TS) 2.7, “Electrical Systems,” Limiting Condition for Operation (LCO) 2.7(2)j. to clarify that a single period of operability for one emergency diesel generator (DG) is limited to 7 consecutive days and specify that the cumulative total time of inoperability for both DGs during any calendar month cannot exceed 7 days.

Basis for proposed no significant hazards consideration determination: As required by 10 CFR 50.91(a), the licensee has provided its analysis of the issue of no significant hazards consideration, which is presented below:

1. Does the proposed change involve a significant increase in the probability or consequences of an accident previously evaluated?

Response: No.

The proposed changes clarify the AOT [allowed outage time] of TS 2.7(2)j for DG inoperability but are not less restrictive. Allowed outage times and editorial changes such as these are not an initiator of any accident previously evaluated. As a result, the probability of an accident previously evaluated is not affected. The consequences of an accident during the revised AOT are no different than the consequences of the same accident during the existing AOT. As a result, the consequences of an accident previously evaluated are not affected by these changes. The proposed changes do not alter or prevent the ability of structures, systems, and components from performing their intended function to mitigate the consequences of an initiating event within the assumed acceptance limits. The proposed changes do not affect the source term, containment isolation, or radiological release assumptions used in evaluating the radiological consequences of an accident previously evaluated. Further, the proposed changes do not increase the types or amounts of radioactive effluent that may be released offsite, nor significantly increase individual or cumulative occupational/public radiation exposures. The proposed changes are consistent with the safety analysis assumptions and resultant consequences. Therefore, the proposed changes do not involve a significant increase in the probability or consequences of an accident previously evaluated.

2. Does the proposed change create the possibility of a new or different accident from any accident previously evaluated?

Response: No.

The proposed changes do not involve a physical alteration of the plant (i.e., no new or different type of equipment will be installed) or a change in the methods governing normal plant operation. The proposed changes do not alter any assumptions made in the safety analysis. Therefore, the proposed changes do not create the possibility of a new or different accident from any accident previously evaluated.

3. Does the proposed change involve a significant reduction in a margin of safety?

Response: No.

The proposed changes clarifying the AOT of TS 2.7(2)j for DG inoperability do not alter the manner in which safety limits, limiting safety system settings or limiting conditions for operation are determined. The safety analysis acceptance criteria are not affected by these changes. The proposed changes will not result in plant operation in a configuration outside of the design basis. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: James R. Curtiss, Esq., Winston & Strawn, 1700 K Street, NW., Washington, DC 20006-3817.

NRC Branch Chief: Thomas G. Hiltz.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-219, Oyster Creek Nuclear Generating Station, Ocean County, New Jersey.

Date of amendment request: May 16, 2007.

Description of amendment request: The amendment revises the Oyster Creek Technical Specifications (TSs) 3.5.A.6, “Primary Containment.” Specifically, the amendment revises the actions taken and applicability of the requirement to inert the primary containment atmosphere to less than 4 percent oxygen (O2) concentration. Additionally, the amendment introduces definitions for thermal power and rated thermal power including changes for their consistent use within the TSs.

Date of issuance: May 30, 2008.

Effective date: As of its date of issuance, and shall be implemented within 60 days.

Amendment No.: 266.

Facility Operating License No. NPF-86: The amendment revised the License and Technical Specifications

Date of initial notice in Federal Register: March 11, 2008 (73 FR 13023). The Commission's related evaluation of the amendment is contained in a Safety Evaluation dated May 30, 2008.

No significant hazards consideration comments received: No.

Arizona Public Service Company, et al., Docket Nos. STN 50-528, STN 50-529, and STN 50-530, Palo Verde Nuclear Generating Station, Units No. 2, Maricopa County, Arizona.

Date of application for amendments: November 14, 2007.

Brief description of amendments: The amendments revised the Technical Specifications by adding Limiting Condition for Operation (LCO) 3.0.8 on the inoperability of snubbers using the Consolidated Line Item Improvement Process. The amendments also made conforming changes to TS LCO 3.0.1. These amendments are consistent with the NRC-approved Industry/Technical Specification Task Force (TSTF) Traveler No. 372, Revision 4, “Addition of LCO 3.0.8, Inoperability of Snubbers.”

Date of issuance: May 30, 2008.

Effective date: As of the date of issuance and shall be implemented within 90 days from the date of issuance.

Amendment Nos.: Unit 1—170, Unit 2—170, and Unit 3—170.

Facility Operating License No. NPF-41, NPF-51, and NPF-74: The amendments revised the Operating Licenses and Technical Specifications.

Date of initial notice in Federal Register: January 29, 2008 (73 FR 5217). The Commission's related evaluation of the amendment is contained in a Safety Evaluation dated May 30, 2008.

No significant hazards consideration comments received: No.

Duke Energy Carolinas, LLC, et al., Docket Nos. 50-413 and 50-414, Catawba Nuclear Station, Units 1 and 2, York County, South Carolina.

Date of application for amendments: February 15, 2008.

Brief description of amendments: The amendments authorize a change to the UFSAR requiring an inspection of each ice condenser within 24 hours of experiencing a seismic event greater than or equal to an operating basis earthquake within the 5-week period after ice basket replenishment has been completed to confirm that adverse ice fallout has not occurred which could impede the ability of the ice condenser lower inlet doors to open. This action would be taken, in lieu of requiring a 5-week waiting period following ice basket replenishment, prior to beginning ascension to power operations.

Date of issuance: May 28, 2008.

Effective date: As of the date of issuance and shall be implemented within 30 days from the date of issuance.

Amendment Nos.: 241, 236.

Facility Operating License Nos. NPF-35 and NPF-52: Amendments revised the licenses and the technical specifications.

Date of initial notice in Federal Register: February 26, 2008 (73 FR 10302). The Commission's related evaluation of the amendments is contained in a Safety Evaluation dated May 28, 2008.

No significant hazards consideration comments received: No.

Entergy Gulf States Louisiana, LLC, and Entergy Operations, Inc., Docket No. 50-458, River Bend Station, Unit 1, West Feliciana Parish, Louisiana.

Date of amendment request: November 15, 2007.

Brief description of amendment: The amendment removed Surveillance Requirement (SR) 3.8.3.6 from the Technical Specifications and relocated the requirement to a licensee-controlled document. SR 3.8.3.6 requires the Emergency Diesel Generator Fuel Oil Storage Tank to be drained, sediment removed, and cleaned on a 10-year interval.

Date of issuance: June 2, 2008.

Effective date: As of the date of issuance and shall be implemented within 60 days from the date of issuance.

Amendment No.: 160.

Facility Operating License No. NPF-47: The amendment revised the Facility Operating License and Technical Specifications.

Date of initial notice in Federal Register: December 31, 2007 (72 FR 74357). The Commission's related evaluation of the amendment is contained in a Safety Evaluation dated June 2, 2008.

No significant hazards consideration comments received: No.

Exelon Generation Company, LLC, Docket Nos. 50-352 and 50-353, Limerick Generating Station, Units 1 and 2, Montgomery County, Pennsylvania.

Date of application for amendment: June 27, 2007.

Brief description of amendment: The amendments consist of changes to the Technical Specifications of each unit to delete the operability and surveillance requirements for the drywell air temperature and suppression chamber air temperature. These post-accident monitoring instrumentation requirements are being re-located to the Limerick Generating Station Technical Requirements Manual.

Date of issuance: May 29, 2008.

Effective date: As of the date of issuance and shall be implemented within 60 days of issuance.

Amendment Nos.: 191 and 152.

Facility Operating License Nos. NPF-39 and NPF-85. These amendments revised the license and the technical specifications.

Date of initial notice in Federal Register: September 11, 2007 (72 FR 51860). The Commission's related evaluation of the amendments is contained in a Safety Evaluation dated May 29, 2008.

No significant hazards consideration comments received: No.

Nine Mile Point Nuclear Station, LLC, Docket No. 50-410, Nine Mile Point Nuclear Station, Unit No. 2, Oswego County, New York.

Date of application for amendment: May 31, 2007, as supplemented by letter dated January 7, 2008.

Brief description of amendment: The amendment revises the accident source term in the design basis radiological consequence analyses in accordance with Title 10 of the Code of Federal Regulations (10 CFR) Section 50.67. The revised accident source term revision replaces the methodology that is based on Technical Information Document (TID)-14844, “Calculation of Distance Factors for Power and Test Reactor Sites,” with the alternate source term methodology described in Regulatory Guide 1.183, “Alternative Radiological Source Terms for Evaluating Design Basis Accidents at Nuclear Power Reactors,” with the exception that TID-14844 will continue to be used as the radiation dose basis for equipment qualification and vital area access.

Date of issuance: May 29, 2008.

Effective date: As of the date of issuance to be implemented within 120 days.

Amendment No.: 125.

Renewed Facility Operating License No. DPR-69: Amendment revised the License and Technical Specifications.

Date of initial notice in Federal Register: July 31, 2007 (72 FR 41786).

The supplement dated January 7, 2008, provided additional information that clarified the application, did not expand the scope of the application as originally noticed, and did not change the Nuclear Regulatory Commission staff's initial proposed no significant hazards consideration determination. The Commission's related evaluation of the amendment is contained in a Safety Evaluation dated May 29, 2008.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007, (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Virginia Electric and Power Company, et al., Docket Nos. 50-280 and 50-281, Surry Power Station, Unit No. 2, Surry County, Virginia.

Date of application for amendments: April 14, 2008, as supplemented on May 6, 2008.

Brief Description of amendments: The proposed amendment allowed a one-cycle revision to Surry Power Station, Unit No. 2 Technical Specifications (TSs). Specifically, TS 6.4.Q, “Steam Generator (SG) Program,” and TS 6.6.3, “Steam Generator Tube Inspection Report,” were revised to incorporate an interim alternate repair criterion (IARC) into the provisions for SG tube repair.

Date of issuance: May 16, 2008.

Effective date: As of the date of issuance and shall be implemented within 30 days.

Amendment No.: 258.

Renewed Facility Operating License Nos. DPR-32 and DPR-37: Amendment changed the license and the technical specifications.

Date of initial notice in Federal Register: 73 FR 22443 (April 25, 2008) and Daily Press (May 12 and May 13, 2008). No comments have been received.

The supplement dated May 6, 2008 requested approval of the amendment based on exigent circumstances, provided additional information that clarified the application, did not expand the scope of the original proposed no significant hazards consideration (NSHC) determination, and did not change the NRC staff's original proposed NSHC determination.

The Commission's related evaluation of the amendment, finding of exigent circumstances, state consultation, and final NSHC determination are contained in a safety evaluation dated May 16, 2008.

The Daily Press notice provided an opportunity to submit comments by May 15, 2008. No comments have been received. The April 25, 2008 notice also provided an opportunity to request a hearing by June 24, 2008, but the Daily Press Notice stated that “an opportunity for a hearing will be published at a later date.” The Daily Press Notice should have stated that “an opportunity for a hearing was previously published.”

No significant hazards consideration comments received: No.

Dated at Rockville, Maryland, this 5th day of June 2008.
For The Nuclear Regulatory Commission.
Robert A. Nelson,
Deputy Director, Division of Operating Reactor Licensing, Office of Nuclear Reactor Regulation.

[FR Doc. E8-13218 Filed 6-16-08; 8:45 am]

BILLING CODE 7590-01-P